DEPARTMENT OF TRANSPORTATION

Federal Aviation Administration

[Summary Notice No. PE-2000-10]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 11, 2000.

ADDRESSES: Send comments on any petition in triplicate to: Federal Aviation Administration, Office of the Chief Counsel, Attn: Rule Docket (AGC-200), Petition Docket No. ____, 800 Independence Avenue, SW., Washington, DC. 20591.

Comments may also be sent to electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW., Washington, DC. 20591; telephone (202) 267-3132.

FOR FURTHER INFORMATION CONTACT: Cherie Jack (202) 267-7271 or Vanessa Wilkins (202) 267-8029 Office of Rulemaking (ARM-1), Federal Aviation Administration, 800 Independence Avenue, SW, Washington, DC 20591.

This notice is published pursuant to paragraphs (c), (e), and (g) of § 11.27 of Part 11 of the Federal Aviation Regulations (14 CFR Part 11).

Issued in Washington, DC., on March 16, 2000.
Donald P. Byrne,
Assistant Chief Counsel for Regulations.

Dispositions of Petitions

Docket No.: 26183.

Petitioner: Air Transport Association of America.

Section of the FAR Affected: 14 CFR appendix H to part 121.

Description of Relief Sought/Disposition: To permit member airlines of the ATA and other similarly situated part 121 certificate holders to continue to use Level C simulators for pilot-in-command initial and upgrade training and checking.

Grant, 01/31/2000, Exemption No. 54000

Docket No.: 27202.

Petitioner: Skydive Arizona, Inc.

Section of the FAR Affected: 14 CFR 105.43(a).

Description of Relief Sought/Disposition: To permit SAI to allow nonstudent foreign nationals to participate in SAI-sponsored parachute jumping events without complying with the parachute equipment and packing requirements of § 105.43(a).

Grant, 01/21/2000, Exemption No. 7106

Docket No.: 29076.

Petitioner: RR Investments, Inc., d.b.a. Million Air Dallas.

Section of the FAR Affected: 14 CFR 135.143(c)(2).

Description of Relief Sought/Disposition: To permit Million Air Dallas to operate certain aircraft under part 135 without a TSO-C112 (Mode S) transponder installed on each aircraft.

Grant, 01/28/2000 Exemption No. 6718A

Docket No.: 29776.

Petitioner: Pomona Valley Pilots Association.

Section of the FAR Affected: 14 CFR 135.251, 135.255, 135.353, and appendixes I and J to part 121.

Description of Relief Sought/Disposition: To permit the PVPA to conduct local sightseeing flights for the 25th annual Pomona Valley Air Fair at Cable Airport, Upland, California, on January 8 and 9, 2000, for compensation or hire, without complying with certain anti-drug and alcohol misuse prevention requirements of part 135.

Grant, 01/05/2000, Exemption No. 7094

Docket No.: 29795.

Petitioner: Western North Carolina Pilots Association, Inc.

Section of the FAR Affected: 14 CFR 135.251, 135.255, 135.353, and appendixes I and J to part 121.

Description of Relief Sought/Disposition: To permit the WNCPA to conduct local sightseeing flights at the Asheville Regional Airport for fall scenic rides on October 23 and 24, 1999, for compensation or hire, without complying with certain anti-drug and alcohol misuse prevention requirements of part 135.

Grant, 10/22/1999, Exemption No. 7049

Docket No.: 29846.

Petitioner: Air Cargo Carriers, Inc.

Section of the FAR Affected: 14 CFR 135.143(c)(2).

Description of Relief Sought/Disposition: To permit Air Cargo to operate certain aircraft under part 135 without a TSO-C112 (Mode S) transponder installed in each aircraft.

Grant, 01/11/2000, Exemption No. 7124

Docket No.: 29879.

Petitioner: Santoku Aviation Electric, Inc.

Section of the FAR Affected: 14 CFR 145.47(b).

Description of Relief Sought/Disposition: To permit SAE to substitute the calibration standards of the National Research Laboratory of Metrology and the Electrotechnical Laboratory, Japan's national standards organizations, for the calibration standards of the U.S. National Institute of Standards and Technology, formerly the National Bureau of Standards, to test its inspection and test equipment.

Grant, 01/14/2000, Exemption No. 7105

[FR Doc. 00-7043 Filed 3-21-00; 8:45 am]

BILLING CODE 4910-13-M